DEPARTMENT OF TRANSPORTATION

Federal Aviation Administration

14 CFR Part 71

[Docket No. FAA-2016-8162; Airspace Docket No. 17-ANM-12]

Proposed Establishment of Class E Airspace, and Amendment of Class E Airspace; St. George, UT

AGENCY: Federal Aviation Administration (FAA), DOT.

ACTION: Notice of proposed rulemaking (NPRM).

SUMMARY: This action proposes to establish Class E airspace designated as an extension to a Class E surface area, establish Class E en route airspace, and modify Class E airspace extending upward from 700 feet above the surface at St. George Regional Airport (formerly, St. George Municipal Airport), St. George, UT. After a review of the airspace, the FAA found redesign necessary to support new instrument flight rules (IFR) standard instrument approach procedures and en route operations where the Federal airway structure is inadequate, for the safety and management of aircraft operations at the airport. Also, this action would update the airport name from St. George Municipal Airport, to St. George Regional Airport, in the associated Class D and Class E airspace areas.

DATES: Comments must be received on or before June 5, 2017.

ADDRESSES: Send comments on this proposal to the U.S. Department of Transportation, Docket Operations, 1200 New Jersey Avenue SE., West Building Ground Floor, Room W12-140, Washington, DC 20590; telephone: 1-800-647-5527, or (202) 366-9826. You must identify FAA Docket No. FAA-2016-8162; Airspace Docket No. 17-ANM-12, at the beginning of your comments. You may also submit comments through the Internet at http://www.regulations.gov.

FAA Order 7400.11, Airspace Designations and Reporting Points, and subsequent amendments can be viewed online at http://www.faa.gov/air_traffic/publications/. For further information, you can contact the Airspace Policy Group, Federal Aviation Administration, 800 Independence Avenue SW., Washington, DC 20591; telephone: 202-267-8783. The Order is also available for inspection at the National Archives and Records Administration (NARA). For information on the availability of FAA Order 7400.11A at NARA, call 202-741-6030, or go to http://www.archives.gov/federal_register/code_of_federal-regulations/ibr_locations.html.

FAA Order 7400.11, Airspace Designations and Reporting Points, is published yearly and effective on September 15.

FOR FURTHER INFORMATION CONTACT: Tom Clark, Federal Aviation Administration, Operations Support Group, Western Service Center, 1601 Lind Avenue SW., Renton, WA 98057; telephone (425) 203-4511.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would amend Class E airspace at St. George Regional Airport, St. George, UT, to support new instrument flight rules (IFR) standard instrument approach procedures and en route operations.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Persons wishing the FAA to acknowledge receipt of their comments on this notice must submit with those comments a self-addressed, stamped postcard on which the following statement is made: “Comments to Docket No. FAA-2016-8162/Airspace Docket No. 15-ANM-6.” The postcard will be date/time stamped and returned to the commenter.

All communications received before the specified closing date for comments will be considered before taking action on the proposed rule. The proposal contained in this notice may be changed in light of the comments received. A report summarizing each substantive public contact with FAA personnel concerned with this rulemaking will be filed in the docket.

Availability of NPRMs

An electronic copy of this document may be downloaded through the Internet at http://www.regulations.gov. Recently published rulemaking documents can also be accessed through the FAA's Web page at http://www.faa.gov/air_traffic/publications/airspace_amendments/.

You may review the public docket containing the proposal, any comments received, and any final disposition in person in the Dockets Office (see the ADDRESSES section for the address and phone number) between 9:00 a.m. and 5:00 p.m., Monday through Friday, except federal holidays. An informal docket may also be examined during normal business hours at the Northwest Mountain Regional Office of the Federal Aviation Administration, Air Traffic Organization, Western Service Center, Operations Support Group, 1601 Lind Avenue SW., Renton, WA 98057.

Availability and Summary of Documents Proposed for Incorporation by Reference

This document proposes to amend FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Proposal

The FAA is proposing an amendment to Title 14 Code of Federal Regulations (14 CFR) Part 71 by establishing Class E airspace designated as an extension to a Class E surface area, establishing Class E domestic en route airspace upward from 1,200 feet above the surface, and modifying Class E airspace extending upward from 700 feet above the surface, in the vicinity of the St. George, UT. This airspace redesign is necessary for the safety and management of aircraft operations at the airport and to support en route operations where the Federal airway structure is inadequate. Also, this action would update the airport name from St. George Municipal Airport, to St. George Regional Airport, in the associated Class D and Class E airspace areas.

Class E airspace designated as an extension to a Class E surface area would be established within 1 mile each side of the St. George Regional Airport 030° bearing from the airport 4.5-mile radius to 7.7 miles northeast of the airport and within 2 miles each side of the airport 203° bearing from the 4.5-mile radius to 8.5 miles southwest of the airport. This controlled airspace would support instrument flight rules (IFR) operations for standard instrument approach aircraft operating below 1,000 feet above the surface.

Class E airspace extending upward from 700 feet above the surface would be reduced to a 4.5-mile radius (from a 8.1-mile radius) of the airport, and within 2.5 miles each side of the airport 203° bearing (from 4 miles each side of the 200° bearing) of the airport extending from the airport 4.5-mile radius (from a 8.1-mile radius) to 13.9 miles southwest (from 20 miles southwest) of the airport, and within 2.2 miles (from 4 miles) each side of the airport 030° bearing extending from the airport 4.5-mile radius (from a 8.1-mile radius) to 21.6 miles northeast (from 25.8 miles) of the airport. The existing 1,200 foot airspace would be removed since this would duplicate the en route airspace described below.

Class E en route airspace would be established for the safety and management of IFR point-to-point operations outside of the established airway structure, and Air Traffic Control vectoring services.

Class E airspace designations are published in paragraph 6002, 6004, 6005, and 6006, respectively, of FAA Order 7400.11A, dated August 3, 2016, and effective September 15, 2016, which is incorporated by reference in 14 CFR 71.1. The Class E airspace designations listed in this document will be published subsequently in the Order.

Regulatory Notices and Analyses

The FAA has determined that this regulation only involves an established body of technical regulations for which frequent and routine amendments are necessary to keep them operationally current, is non-controversial and unlikely to result in adverse or negative comments. It, therefore: (1) Is not a “significant regulatory action″ under Executive Order 12866; (2) is not a “significant rule″ under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

This proposal will be subject to an environmental analysis in accordance with FAA Order 1050.1F, “Environmental Impacts: Policies and Procedures″ prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, and effective September 15, 2016, is amended as follows:

Paragraph 6002 Class E Airspace Designated as Surface Areas.

* * * * *

ANM UT E2 St. George, UT [Modified]

St. George Regional Airport, UT

(Lat. 37°02′11″ N., long. 113°30′37″ W.)

Within a 4.5-mile radius of St. George Regional Airport.

Paragraph 6004 Class E Airspace Areas Designated as an Extension to a Class D or Class E Surface Area.

* * * * *

ANM UT E4 St. George, UT [New]

St. George Regional Airport, UT

(Lat. 37°02′11″ N., long. 113°30′37″ W.)

That airspace extending upward from the surface within 1 mile each side of the St. George Regional Airport 030° bearing from the airport 4.5-mile radius to 7.7 miles northeast of the airport, and within 2 miles each side of the airport 203° bearing from the airport 4.5-mile radius to 8.5 miles southwest of the airport.

Paragraph 6005 Class E Airspace Areas Extending Upward From 700 Feet or More Above the Surface of the Earth.

* * * * *

ANM UT E5 St. George, UT [Modified]

St. George Regional Airport, UT

(Lat. 37°02′11″ N., long. 113°30′37″ W.)

That airspace extending upward from 700 feet above the surface within a 4.5-mile radius of the St. George Regional Airport, and within 2.5 miles each side of the airport 203° bearing, extending from the airport 4.5-mile radius to 13.9 miles southwest of the airport, and within 2.2 miles each side of the airport 030° bearing extending from the airport 4.5-mile radius to 21.6 miles northeast of the airport.

Paragraph 6006 En Route Domestic Airspace Areas.

* * * * *

ANM UT E6 St. George, UT [New]

St. George Regional Airport, UT

(Lat. 37°02′11″ N., long. 113°30′37″ W.)

That airspace extending upward from 1,200 feet above the surface within an area bounded by lat. 37°30′00″ N., long. 113°00′00″ W.; to lat. 37°48′00″ N., long. 113°30′00″ W.; to lat. 37°49′25″ N., long. 113°42′01″ W.; to lat. 37°43′00″ N., long. 113°47′00″ W.; to lat. 37°34′30″ N., long. 113°54′00″ W.; to lat. 37°25′32″ N., long. 113°51′22″ W.; to lat. 37°15′00″ N., long. 114°00′00″ W.; to lat. 36°58′00″ N., long. 114°14′03″ W.; to lat. 36°19′00″ N., long. 114°14′03″ W.; to lat. 35°39′00″ N., long. 114°14′03″ W.; to lat. 35°22′40″ N., long. 113°46′10″ W.; to lat. 36°02′00″ N., long. 112°58′00″ W.; to lat. 36°42′00″ N., long. 112°56′00″ W.; to lat. 36°57′00″ N., long. 112°52′00″ W., thence to the point of beginning.

Issued in Seattle, Washington, on April 4, 2017.
Sam S. L. Shrimpton,
Acting Group Manager, Operations Support Group, Western Service Center.

[FR Doc. 2017-07790 Filed 4-19-17; 8:45 am]

BILLING CODE 4910-13-P